DEPARTMENT OF DEFENSE

Department of the Navy

Cancellation of the Notice of Intent To Prepare an Environmental Impact Statement for Construction and Operation of an Outlying Landing Field To Support Carrier Air Wing Aircraft at Naval Air Station Oceana and Naval Station Norfolk, VA

AGENCY: Department of the Navy, DoD.

ACTION: Notice.

SUMMARY: The Department of the Navy (DoN) hereby cancels its Notice of Intent to Prepare an Environmental Impact Statement (EIS) for Construction and Operation of an Outlying Landing Field (OLF) in northeastern North Carolina and southeastern Virginia. The purpose of the OLF was to support carrier-based air wing aircraft squadrons stationed at and transient to Naval Air Station (NAS) Oceana and Naval Station (NS) Norfolk, VA. Navy Auxiliary Landing Field Fentress remains the single, local DoN OLF for Field Carrier Landing Practice (FCLP) training for all fixed-wing, carrier-based air wing aircraft operating from NAS Oceana and NS Norfolk Chambers Field.

SUPPLEMENTARY INFORMATION: In a Notice of Intent published on April 9, 2008 (73 FR 19196), the DoN announced its intent to prepare an EIS to evaluate the potential environmental consequences of constructing and operating an OLF to support FCLP training requirements for carrier-based fixed-wing aircraft at NAS Oceana and NS Norfolk Chambers Field, Virginia. On August 28, 2009, the DoN delayed release of the Draft OLF EIS in order to allow inclusion of a noise analysis for the F-35C (Joint Strike Fighter) in the EIS. The DoN suspended the Draft OLF EIS on January 27, 2011 pending better defined East Coast F-35C homebasing and training requirements.

The current decision to cancel the suspended OLF EIS does not address the future requirement for an additional DoN East Coast OLF. When the DoN identifies East Coast F-35C homebasing and training requirements, the future long-term need for an additional OLF will be determined. At present, an EIS to support the East Coast homebasing of the F-35C is anticipated to begin no earlier than 2017, rather than 2014 as was announced in 2011. If a decision is made at some future date to pursue an additional OLF in conjunction with the East Coast F-35C homebasing, a new siting study would also have to be conducted. It is unknown at this time whether any, or all, of the five sites considered in the canceled OLF EIS would be considered in the future.

FOR FURTHER INFORMATION CONTACT: Mr. Ted Brown, Public Affairs Office, Commander, U.S. Fleet Forces Command, 1562 Mitcher Avenue, Suite 250, Norfolk, VA 23551-2487, telephone 757-836-3600; facsimile 757-836-3601.

Dated: November 14, 2013.
N.A. Hagerty-Ford,
Commander, Office of the Judge Advocate General, U.S. Navy, Federal Register Liaison Officer.

[FR Doc. 2013-27806 Filed 11-19-13; 8:45 am]

BILLING CODE 3810-FF-P